SMALL BUSINESS ADMINISTRATION

Data Collection Available for Public Comments

ACTION: 60-Day notice and request for comments.

SUMMARY: The Small Business Administration (SBA) intends to request approval, from the Office of Management and Budget (OMB) for the collection of information described below. Unless waived, the Paperwork Reduction Act (PRA) requires federal agencies to publish a notice in the Federal Register concerning each proposed collection of information before submission to OMB, and to allow 60 days for public comment in response to the notice. This notice complies with the requirement.

DATES: Submit comments on or before August 19, 2025.

ADDRESSES: Send all comments to Chris Webb, Acting Chief, Microenterprise Development Division, Office of Financial Assistance, James.Webb@sba.gov.

FOR FURTHER INFORMATION CONTACT: Small Business Administration, Chris Webb, Acting Chief, Microenterprise Development Division, Office of Financial Assistance, (202) 205-6975, James.Webb@sba.gov, or Shauniece Carter, Interim Agency Clearance Officer, (202) 205-6536, shauniece.carter@sba.gov.

SUPPLEMENTARY INFORMATION: Information collection is needed to ensure that Microloan Program activity meets the statutory goals of assisting mandated target market. The information is used by the reporting participants and the SBA to assist with portfolio management, risk management, loan servicing, oversight and compliance, data management and understanding of short- and long-term trends and development of outcome measures.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0352.

Title: Microloan Program Electronic Reporting System (MPERS) (MPERsystem).

Description of Respondents: SBA reporting participants in the Microloan Program.

Form Number: N/A.

Total Estimated Annual Responses: 7,107.

Total Estimated Annual Hour Burden: 2,930.

Shauniece Carter,
Interim Agency Clearance Officer.

[FR Doc. 2025-11303 Filed 6-18-25; 8:45 am]

BILLING CODE 8026-03-P